SMALL BUSINESS ADMINISTRATION

Women Owned Small Business Federal Contracting Program; Identification of Eligible Industries

AGENCY: U.S. Small Business Administration.

ACTION: Notice.

SUMMARY: The U.S. Small Business Administration (SBA) identifies eligible industries for the Women-Owned Small Business Federal Contracting Program (WOSB Program), which provides set-aside and sole-source contract opportunities to small business concerns owned and controlled by women. To be an eligible industry for the WOSB Program, SBA must determine through a study that women are either underrepresented or substantially underrepresented in Federal contracting in that industry. This notice identifies the eligible industries for the WOSB Program based on the results of SBA's most recent study.

DATES: The designations of industries contained in this notice apply to all solicitations issued in the WOSB Program on or after March 18, 2022.

FOR FURTHER INFORMATION CONTACT: Roman Ivey, Program Analyst, Office of Government Contracting and Business Development, roman.ivey@sba.gov, (202) 401-1420.

SUPPLEMENTARY INFORMATION:

I. Background

Under section 8(m) of the Small Business Act, 15 U.S.C. 637(m), SBA is responsible for implementing and administering the WOSB Program. The purpose of the WOSB Program is to ensure that women-owned small businesses (WOSBs) have an equal opportunity to participate in Federal contracting and to help attain the Federal government's goal of awarding five percent of its prime contract dollars to WOSBs. The WOSB Program authorizes Federal contracting officers to restrict competition for a contract to WOSBs if (1) there is a reasonable expectation that at least two WOSBs will submit offers that meet the requirements of the acquisition at a fair and reasonable price and (2) the acquisition is for a good or service assigned a North American Industry Classification System (NAICS) code in which SBA has determined that WOSBs are “substantially underrepresented.” The WOSB Program also authorizes contracting officers to award a sole-source contract assigned a WOSB Program-eligible NAICS code, provided that only one WOSB can be identified that can perform the contract at a fair and reasonable price.

Economically disadvantaged women-owned small businesses (EDWOSBs) can likewise receive set-asides and sole-source contracts similar to those described above for WOSBs. Federal agencies may reserve contract opportunities for EDWOSB set-asides and sole-source awards in industries where SBA has determined that WOSBs are “underrepresented.” The WOSB and EDWOSB preferences are set forth in SBA's regulations at 13 CFR 127.500-.509.

The Small Business Reauthorization Act of 2000, Public Law 106-554, 1(a)(9) [title VIII, § 811], required the SBA Administrator to conduct an initial study to identify those industries in which small business concerns owned and controlled by women are underrepresented in Federal contracting, in order to designate those industries as eligible for set-asides and sole-source contracts under the WOSB Program. 15 U.S.C. 637(m)(4). In 2014, Congress amended the Small Business Act to require SBA to conduct a new study every five years and to submit a report to Congress reflecting the results of each new study. Public Law 113-291, § 825(c). SBA last conducted a study in 2016, relying on analysis from the Department of Commerce. 81 FR 11340 (March 3, 2016). An SBA regulation, 13 CFR 127.501, provides that SBA's study will designate NAICS Industry Subsector codes in which WOSBs are underrepresented and substantially underrepresented.

On October 1, 2020, SBA issued a Notice and Request for Comments in the Federal Register, 85 FR 62004, announcing that SBA was preparing to conduct a new study. SBA also sought public input on specific questions regarding the study methodology.

SBA recently conducted a new study and discusses the results below.

II. Overview of Study and Results

In Fiscal Year 2020 (FY 2020), SBA contracted with an independent research firm to study the representation of WOSBs in government procurement at the industry level during the previous three fiscal years (FY 2016-FY 2019). The research firm used a methodology similar to that developed by Kauffman-RAND Institute for Entrepreneurship Public Policy (RAND) for the WOSB Program study issued in 2007, https://www.rand.org/pubs/technical_reports/TR442.html. As with the RAND study, the firm's study defined industries using 4-digit NAICS codes.

The study methodology compares two WOSB utilization rates to the WOSB availability rate in each industry. The two utilization rates are, first, the percentage of small-business eligible contracts that were awarded to WOSBs, and, second, the percentage of small-business eligible dollars that were obligated to WOSBs, as reported in the Federal Procurement Data System. The availability rate is the percentage of all businesses registered as interested in competing for contracts that identify as WOSBs in the System for Award Management (SAM). From those rates, the study calculates disparity ratios. A disparity ratio of 1 indicates that WOSBs are utilized proportionately to their availability, whereas a ratio less than 1 indicates a discrepancy between WOSBs' utilization rate and their availability. The RAND study had previously set disparity ratio thresholds of 0.5 and 0.8 disparity ratio for finding WOSBs to be substantially underrepresented and underrepresented, respectively. SBA adopted the same thresholds here. SBA designated an industry as eligible based on underrepresentation if either of two disparity ratios for that industry fell below the threshold for finding underrepresentation.

To determine the stability of each disparity ratio, the study applied a statistical power analysis using the number of contracts issued in an industry. The power analysis showed, in some industries, that the number of contracts issued within the study time frame was insufficient to calculate a reliable disparity ratio measuring WOSB representation. Additionally, to confirm the study's findings about existing WOSB Program industries where the study did not find underrepresentation, SBA re-calculated disparity ratios removing WOSB and EDWOSB set-aside and sole-source contracts from utilization ratio calculations. Not doing so would mask underrepresentation that would occur if WOSBs were not provided set-aside opportunities. SBA also replicated the above methodology using FY 2020 data to examine potential impact of the COVID-19 pandemic on government contracting. Results did not provide sufficient evidence to deviate from the study's FY 2016-FY 2019 conclusions.

III. Eligible Industries and Responses to Comments

Based on the above, SBA finds a total of 759 NAICS code industries eligible for Federal contracting under the WOSB Program. This includes 113 NAICS code industries in which WOSBs are underrepresented (meaning contracting officers can make EDWOSB set-aside and sole-source awards in these industries) and 646 NAICS code industries in which WOSBs are substantially underrepresented (meaning contracting officers can make WOSB set-aside and sole-source awards in these industries). EDWOSB concerns are eligible to be considered for both WOSB and EDWOSB set-aside and sole-source awards for all 759 NAICS code industries. These new designations are effectively immediately.

In response to the October 2020 Request for Comments, SBA received 375 comments. From those, 261 commenters recommended that SBA identify all industry NAICS codes as being part of the WOSB program. The remaining comments were either out of scope or identified specific industries in which SBA should closely investigate disparities among WOSB firms.

Although neither the statute nor SBA's regulations permit SBA to designate all industries as eligible, the results of this most recent study designate 759 of 891 procurement NAICS codes as eligible for either WOSB or EDWOSB procurement procedures. This is over 85% of the procurement NAICS codes. Using Fiscal Year 2021 data, these NAICS codes account for 92% of the Federal government's small-business spending. Only 2% of the Federal government's small-business spending came in current NAICS codes that are not eligible for either WOSB or EDWOSB procedures under these designations (the remainder was spent in NAICS codes that are no longer active). Prior to these changes, fewer than 50% of procurement NAICS codes were eligible for the WOSB Program, and those industries accounted for 75% of small-business spending. Thus, given the requirements of the statute and regulations, the new list of eligible industries addresses the commenters' desire to expand the NAICS codes eligible for the WOSB Program.

As noted in Section II above, SBA determined WOSB and EDWOSB eligibility at the 4-digit NAICS industry group level. For practical reasons, SBA is reporting the results at the 6-digit NAICS industry level. However, only those 6-digit NAICS codes for which SBA has Federal contracting data are included because those are the only industries in which it is possible to determine underrepresentation. Please also note that any sub-industry activities (commonly known as “exceptions” in SBA's table of size standards) that fall under one of the listed NAICS codes below also qualify for WOSB or EDWOSB set-asides or sole-source awards.

The 113 NAICS codes in which WOSBs are underrepresented are set forth in Table 1, NAICS Codes in Which WOSBs are Underrepresented.

Table 1—NAICS Codes in Which WOSBs Are Underrepresented
[EDWOSB set-aside/sole-source qualified]
NAICS code | NAICS U.S. industry title
111411 | Mushroom Production.
111419 | Other Food Crops Grown Under Cover.
111421 | Nursery and Tree Production.
111422 | Floriculture Production.
112310 | Chicken Egg Production.
112320 | Broilers and Other Meat Type Chicken Production.
112330 | Turkey Production.
112340 | Poultry Hatcheries.
112390 | Other Poultry Production.
115310 | Support Activities for Forestry.
212311 | Dimension Stone Mining and Quarrying.
212312 | Crushed and Broken Limestone Mining and Quarrying.
212313 | Crushed and Broken Granite Mining and Quarrying.
212319 | Other Crushed and Broken Stone Mining and Quarrying.
212321 | Construction Sand and Gravel Mining.
212322 | Industrial Sand Mining.
212324 | Kaolin and Ball Clay Mining.
212325 | Clay and Ceramic and Refractory Minerals Mining.
212391 | Potash, Soda, and Borate Mineral Mining.
212392 | Phosphate Rock Mining.
212393 | Other Chemical and Fertilizer Mineral Mining.
212399 | All Other Nonmetallic Mineral Mining.
238310 | Drywall and Insulation Contractors.
238320 | Painting and Wall Covering Contractors.
238330 | Flooring Contractors.
238340 | Tile and Terrazzo Contractors.
238350 | Finish Carpentry Contractors.
238390 | Other Building Finishing Contractors.
238910 | Site Preparation Contractors.
238990 | All Other Specialty Trade Contractors.
311111 | Dog and Cat Food Manufacturing.
311119 | Other Animal Food Manufacturing.
311611 | Animal (except Poultry) Slaughtering.
311612 | Meat Processed from Carcasses.
311613 | Rendering and Meat Byproduct Processing.
311615 | Poultry Processing.
314110 | Carpet and Rug Mills.
314120 | Curtain and Linen Mills.
321113 | Sawmills.
321114 | Wood Preservation.
327410 | Lime Manufacturing.
327420 | Gypsum Product Manufacturing.
331210 | Iron and Steel Pipe and Tube Manufacturing from Purchased Steel.
331221 | Rolled Steel Shape Manufacturing.
331222 | Steel Wire Drawing.
332613 | Spring Manufacturing.
332618 | Other Fabricated Wire Product Manufacturing.
332710 | Machine Shops.
332721 | Precision Turned Product Manufacturing.
332722 | Bolt, Nut, Screw, Rivet, and Washer Manufacturing.
332811 | Metal Heat Treating.
332812 | Metal Coating, Engraving (except Jewelry and Silverware), and Allied Services to Manufacturers.
332813 | Electroplating, Plating, Polishing, Anodizing, and Coloring.
333241 | Food Product Machinery Manufacturing.
333242 | Semiconductor Machinery Manufacturing.
333243 | Sawmill, Woodworking, and Paper Machinery Manufacturing.
333244 | Printing Machinery and Equipment Manufacturing.
333249 | Other Industrial Machinery Manufacturing.
334310 | Audio and Video Equipment Manufacturing.
335110 | Electric Lamp Bulb and Part Manufacturing.
335121 | Residential Electric Lighting Fixture Manufacturing.
335122 | Commercial, Industrial, and Institutional Electric Lighting Fixture Manufacturing.
335129 | Other Lighting Equipment Manufacturing.
335311 | Power, Distribution, and Specialty Transformer Manufacturing.
335312 | Motor and Generator Manufacturing.
335313 | Switchgear and Switchboard Apparatus Manufacturing.
335314 | Relay and Industrial Control Manufacturing.
337910 | Mattress Manufacturing.
337920 | Blind and Shade Manufacturing.
485510 | Charter Bus Industry.
488210 | Support Activities for Rail Transportation.
512110 | Motion Picture and Video Production.
512120 | Motion Picture and Video Distribution.
512131 | Motion Picture Theaters (except Drive-Ins).
512132 | Drive-In Motion Picture Theaters.
512191 | Teleproduction and Other Postproduction Services.
512199 | Other Motion Picture and Video Industries.
561710 | Exterminating and Pest Control Services.
561720 | Janitorial Services.
561730 | Landscaping Services.
561740 | Carpet and Upholstery Cleaning Services.
561790 | Other Services to Buildings and Dwellings.
562111 | Solid Waste Collection.
562112 | Hazardous Waste Collection.
562119 | Other Waste Collection.
621310 | Offices of Chiropractors.
621320 | Offices of Optometrists.
621330 | Offices of Mental Health Practitioners (except Physicians).
621340 | Offices of Physical, Occupational and Speech Therapists, and Audiologists.
621391 | Offices of Podiatrists.
621399 | Offices of All Other Miscellaneous Health Practitioners.
624410 | Child Day Care Services.
712110 | Museums.
712120 | Historical Sites.
712130 | Zoos and Botanical Gardens.
712190 | Nature Parks and Other Similar Institutions.
721110 | Hotels (except Casino Hotels) and Motels.
721120 | Casino Hotels.
721191 | Bed-and-Breakfast Inns.
721199 | All Other Traveler Accommodation.
721211 | RV (Recreational Vehicle) Parks and Campgrounds.
721214 | Recreational and Vacation Camps (except Campgrounds).
811411 | Home and Garden Equipment Repair and Maintenance.
811412 | Appliance Repair and Maintenance.
811420 | Reupholstery and Furniture Repair.
811430 | Footwear and Leather Goods Repair.
811490 | Other Personal and Household Goods Repair and Maintenance.
812111 | Barber Shops.
812112 | Beauty Salons.
812113 | Nail Salons.
812191 | Diet and Weight Reducing Centers.
812199 | Other Personal Care Services.
813110 | Religious Organizations.

The 646 NAICS codes in which WOSBs are substantially underrepresented are set forth in Table 2, NAICS Codes in Which WOSBs are Substantially Underrepresented.

Table 2—NAICS Codes in Which WOSBs Are Substantially Underrepresented
[WOSB set-aside/sole-source qualified]
NAICS code | NAICS U.S. industry title
111110 | Soybean Farming.
111120 | Oilseed (except Soybean) Farming.
111130 | Dry Pea and Bean Farming.
111140 | Wheat Farming.
111150 | Corn Farming.
111160 | Rice Farming.
111191 | Oilseed and Grain Combination Farming.
111199 | All Other Grain Farming.
111910 | Tobacco Farming.
111920 | Cotton Farming.
111930 | Sugarcane Farming.
111940 | Hay Farming.
111991 | Sugar Beet Farming.
111992 | Peanut Farming.
111998 | All Other Miscellaneous Crop Farming.
112210 | Hog and Pig Farming.
112910 | Apiculture.
112920 | Horses and Other Equine Production.
112930 | Fur-Bearing Animal and Rabbit Production.
112990 | All Other Animal Production.
113210 | Forest Nurseries and Gathering of Forest Products.
114210 | Hunting and Trapping.
115111 | Cotton Ginning.
115112 | Soil Preparation, Planting, and Cultivating.
115113 | Crop Harvesting, Primarily by Machine.
115114 | Postharvest Crop Activities (except Cotton Ginning).
115115 | Farm Labor Contractors and Crew Leaders.
115116 | Farm Management Services.
115210 | Support Activities for Animal Production.
211120 | Crude Petroleum Extraction.
211130 | Natural Gas Extraction.
213111 | Drilling Oil and Gas Wells.
213112 | Support Activities for Oil and Gas Operations.
213113 | Support Activities for Coal Mining.
213114 | Support Activities for Metal Mining.
213115 | Support Activities for Nonmetallic Minerals (except Fuels) Mining.
221111 | Hydroelectric Power Generation.
221112 | Fossil Fuel Electric Power Generation.
221113 | Nuclear Electric Power Generation.
221114 | Solar Electric Power Generation.
221115 | Wind Electric Power Generation.
221116 | Geothermal Electric Power Generation.
221117 | Biomass Electric Power Generation.
221118 | Other Electric Power Generation.
221121 | Electric Bulk Power Transmission and Control.
221122 | Electric Power Distribution.
221210 | Natural Gas Distribution.
221310 | Water Supply and Irrigation Systems.
221320 | Sewage Treatment Facilities.
221330 | Steam and Air-Conditioning Supply.
236115 | New Single-Family Housing Construction (except For-Sale Builders).
236116 | New Multifamily Housing Construction (except For-Sale Builders).
236117 | New Housing For-Sale Builders.
236118 | Residential Remodelers.
236210 | Industrial Building Construction.
236220 | Commercial and Institutional Building Construction.
237110 | Water and Sewer Line and Related Structures Construction.
237120 | Oil and Gas Pipeline and Related Structures Construction.
237130 | Power and Communication Line and Related Structures Construction.
237310 | Highway, Street, and Bridge Construction.
237990 | Other Heavy and Civil Engineering Construction.
311211 | Flour Milling.
311212 | Rice Milling.
311213 | Malt Manufacturing.
311221 | Wet Corn Milling.
311224 | Soybean and Other Oilseed Processing.
311225 | Fats and Oils Refining and Blending.
311230 | Breakfast Cereal Manufacturing.
311313 | Beet Sugar Manufacturing.
311314 | Cane Sugar Manufacturing.
311340 | Nonchocolate Confectionery Manufacturing.
311351 | Chocolate and Confectionery Manufacturing from Cacao Beans.
311352 | Confectionery Manufacturing from Purchased Chocolate.
311411 | Frozen Fruit, Juice, and Vegetable Manufacturing.
311412 | Frozen Specialty Food Manufacturing.
311421 | Fruit and Vegetable Canning.
311422 | Specialty Canning.
311423 | Dried and Dehydrated Food Manufacturing.
311511 | Fluid Milk Manufacturing.
311512 | Creamery Butter Manufacturing.
311513 | Cheese Manufacturing.
311514 | Dry, Condensed, and Evaporated Dairy Product Manufacturing.
311520 | Ice Cream and Frozen Dessert Manufacturing.
311710 | Seafood Product Preparation and Packaging.
311811 | Retail Bakeries.
311812 | Commercial Bakeries.
311813 | Frozen Cakes, Pies, and Other Pastries Manufacturing.
311821 | Cookie and Cracker Manufacturing.
311824 | Dry Pasta, Dough, and Flour Mixes Manufacturing from Purchased Flour.
311830 | Tortilla Manufacturing.
311911 | Roasted Nuts and Peanut Butter Manufacturing.
311919 | Other Snack Food Manufacturing.
311920 | Coffee and Tea Manufacturing.
311930 | Flavoring Syrup and Concentrate Manufacturing.
311941 | Mayonnaise, Dressing, and Other Prepared Sauce Manufacturing.
311942 | Spice and Extract Manufacturing.
311991 | Perishable Prepared Food Manufacturing.
311999 | All Other Miscellaneous Food Manufacturing.
312111 | Soft Drink Manufacturing.
312112 | Bottled Water Manufacturing.
312113 | Ice Manufacturing.
312120 | Breweries.
312130 | Wineries.
312140 | Distilleries.
313110 | Fiber, Yarn, and Thread Mills.
313210 | Broadwoven Fabric Mills.
313220 | Narrow Fabric Mills and Schiffli Machine Embroidery.
313230 | Nonwoven Fabric Mills.
313240 | Knit Fabric Mills.
313310 | Textile and Fabric Finishing Mills.
313320 | Fabric Coating Mills.
314910 | Textile Bag and Canvas Mills.
314994 | Rope, Cordage, Twine, Tire Cord, and Tire Fabric Mills.
314999 | All Other Miscellaneous Textile Product Mills.
315110 | Hosiery and Sock Mills.
315190 | Other Apparel Knitting Mills.
315210 | Cut and Sew Apparel Contractors.
315220 | Men's and Boys' Cut and Sew Apparel Manufacturing.
315240 | Women's, Girls', and Infants' Cut and Sew Apparel Manufacturing.
315280 | Other Cut and Sew Apparel Manufacturing.
315990 | Apparel Accessories and Other Apparel Manufacturing.
316110 | Leather and Hide Tanning and Finishing.
316210 | Footwear Manufacturing.
316992 | Women's Handbag and Purse Manufacturing.
316998 | All Other Leather Good and Allied Product Manufacturing.
321211 | Hardwood Veneer and Plywood Manufacturing.
321212 | Softwood Veneer and Plywood Manufacturing.
321213 | Engineered Wood Member (except Truss) Manufacturing.
321214 | Truss Manufacturing.
321219 | Reconstituted Wood Product Manufacturing.
321911 | Wood Window and Door Manufacturing.
321912 | Cut Stock, Resawing Lumber, and Planing.
321918 | Other Millwork (including Flooring).
321920 | Wood Container and Pallet Manufacturing.
321991 | Manufactured Home (Mobile Home) Manufacturing.
321992 | Prefabricated Wood Building Manufacturing.
321999 | All Other Miscellaneous Wood Product Manufacturing.
322110 | Pulp Mills.
322121 | Paper (except Newsprint) Mills.
322122 | Newsprint Mills.
322130 | Paperboard Mills.
322211 | Corrugated and Solid Fiber Box Manufacturing.
322212 | Folding Paperboard Box Manufacturing.
322219 | Other Paperboard Container Manufacturing.
322220 | Paper Bag and Coated and Treated Paper Manufacturing.
322230 | Stationery Product Manufacturing.
322291 | Sanitary Paper Product Manufacturing.
322299 | All Other Converted Paper Product Manufacturing.
323111 | Commercial Printing (except Screen and Books).
323113 | Commercial Screen Printing.
323117 | Books Printing.
323120 | Support Activities for Printing.
324110 | Petroleum Refineries.
324121 | Asphalt Paving Mixture and Block Manufacturing.
324122 | Asphalt Shingle and Coating Materials Manufacturing.
324191 | Petroleum Lubricating Oil and Grease Manufacturing.
324199 | All Other Petroleum and Coal Products Manufacturing.
325110 | Petrochemical Manufacturing.
325120 | Industrial Gas Manufacturing.
325130 | Synthetic Dye and Pigment Manufacturing.
325180 | Other Basic Inorganic Chemical Manufacturing.
325193 | Ethyl Alcohol Manufacturing.
325194 | Cyclic Crude, Intermediate, and Gum and Wood Chemical Manufacturing.
325199 | All Other Basic Organic Chemical Manufacturing.
325211 | Plastics Material and Resin Manufacturing.
325212 | Synthetic Rubber Manufacturing.
325220 | Artificial and Synthetic Fibers and Filaments Manufacturing.
325311 | Nitrogenous Fertilizer Manufacturing.
325312 | Phosphatic Fertilizer Manufacturing.
325314 | Fertilizer (Mixing Only) Manufacturing.
325320 | Pesticide and Other Agricultural Chemical Manufacturing.
325411 | Medicinal and Botanical Manufacturing.
325412 | Pharmaceutical Preparation Manufacturing.
325413 | In-Vitro Diagnostic Substance Manufacturing.
325414 | Biological Product (except Diagnostic) Manufacturing.
325510 | Paint and Coating Manufacturing.
325520 | Adhesive Manufacturing.
325611 | Soap and Other Detergent Manufacturing.
325612 | Polish and Other Sanitation Good Manufacturing.
325613 | Surface Active Agent Manufacturing.
325620 | Toilet Preparation Manufacturing.
325910 | Printing Ink Manufacturing.
325920 | Explosives Manufacturing.
325991 | Custom Compounding of Purchased Resins.
325992 | Photographic Film, Paper, Plate, and Chemical Manufacturing.
325998 | All Other Miscellaneous Chemical Product and Preparation Manufacturing.
326211 | Tire Manufacturing (except Retreading).
326212 | Tire Retreading.
326220 | Rubber and Plastics Hoses and Belting Manufacturing.
326291 | Rubber Product Manufacturing for Mechanical Use.
326299 | All Other Rubber Product Manufacturing.
327110 | Pottery, Ceramics, and Plumbing Fixture Manufacturing.
327120 | Clay Building Material and Refractories Manufacturing.
327211 | Flat Glass Manufacturing.
327212 | Other Pressed and Blown Glass and Glassware Manufacturing.
327213 | Glass Container Manufacturing.
327215 | Glass Product Manufacturing Made of Purchased Glass.
327310 | Cement Manufacturing.
327320 | Ready-Mix Concrete Manufacturing.
327331 | Concrete Block and Brick Manufacturing.
327332 | Concrete Pipe Manufacturing.
327390 | Other Concrete Product Manufacturing.
327910 | Abrasive Product Manufacturing.
327991 | Cut Stone and Stone Product Manufacturing.
327992 | Ground or Treated Mineral and Earth Manufacturing.
327993 | Mineral Wool Manufacturing.
327999 | All Other Miscellaneous Nonmetallic Mineral Product Manufacturing.
331110 | Iron and Steel Mills and Ferroalloy Manufacturing.
331313 | Alumina Refining and Primary Aluminum Production.
331314 | Secondary Smelting and Alloying of Aluminum.
331315 | Aluminum Sheet, Plate, and Foil Manufacturing.
331318 | Other Aluminum Rolling, Drawing, and Extruding.
331410 | Nonferrous Metal (except Aluminum) Smelting and Refining.
331420 | Copper Rolling, Drawing, Extruding, and Alloying.
331491 | Nonferrous Metal (except Copper and Aluminum) Rolling, Drawing, and Extruding.
331492 | Secondary Smelting, Refining, and Alloying of Nonferrous Metal (except Copper and Aluminum).
331511 | Iron Foundries.
331512 | Steel Investment Foundries.
331513 | Steel Foundries (except Investment).
331523 | Nonferrous Metal Die-Casting Foundries.
331524 | Aluminum Foundries (except Die-Casting).
331529 | Other Nonferrous Metal Foundries (except Die-Casting).
332111 | Iron and Steel Forging.
332112 | Nonferrous Forging.
332114 | Custom Roll Forming.
332117 | Powder Metallurgy Part Manufacturing.
332119 | Metal Crown, Closure, and Other Metal Stamping (except Automotive).
332215 | Metal Kitchen Cookware, Utensil, Cutlery, and Flatware (except Precious) Manufacturing.
332216 | Saw Blade and Handtool Manufacturing.
332311 | Prefabricated Metal Building and Component Manufacturing.
332312 | Fabricated Structural Metal Manufacturing.
332313 | Plate Work Manufacturing.
332321 | Metal Window and Door Manufacturing.
332322 | Sheet Metal Work Manufacturing.
332323 | Ornamental and Architectural Metal Work Manufacturing.
332410 | Power Boiler and Heat Exchanger Manufacturing.
332420 | Metal Tank (Heavy Gauge) Manufacturing.
332431 | Metal Can Manufacturing.
332439 | Other Metal Container Manufacturing.
332510 | Hardware Manufacturing.
332911 | Industrial Valve Manufacturing.
332912 | Fluid Power Valve and Hose Fitting Manufacturing.
332913 | Plumbing Fixture Fitting and Trim Manufacturing.
332919 | Other Metal Valve and Pipe Fitting Manufacturing.
332991 | Ball and Roller Bearing Manufacturing.
332992 | Small Arms Ammunition Manufacturing.
332993 | Ammunition (except Small Arms) Manufacturing.
332994 | Small Arms, Ordnance, and Ordnance Accessories Manufacturing.
332996 | Fabricated Pipe and Pipe Fitting Manufacturing.
332999 | All Other Miscellaneous Fabricated Metal Product Manufacturing.
333111 | Farm Machinery and Equipment Manufacturing.
333112 | Lawn and Garden Tractor and Home Lawn and Garden Equipment Manufacturing.
333120 | Construction Machinery Manufacturing.
333131 | Mining Machinery and Equipment Manufacturing.
333132 | Oil and Gas Field Machinery and Equipment Manufacturing.
333314 | Optical Instrument and Lens Manufacturing.
333316 | Photographic and Photocopying Equipment Manufacturing.
333318 | Other Commercial and Service Industry Machinery Manufacturing.
333413 | Industrial and Commercial Fan and Blower and Air Purification Equipment Manufacturing.
333414 | Heating Equipment (except Warm Air Furnaces) Manufacturing.
333415 | Air-Conditioning and Warm Air Heating Equipment and Commercial and Industrial Refrigeration Equipment Manufacturing.
333511 | Industrial Mold Manufacturing.
333514 | Special Die and Tool, Die Set, Jig, and Fixture Manufacturing.
333515 | Cutting Tool and Machine Tool Accessory Manufacturing.
333517 | Machine Tool Manufacturing.
333519 | Rolling Mill and Other Metalworking Machinery Manufacturing.
333611 | Turbine and Turbine Generator Set Units Manufacturing.
333612 | Speed Changer, Industrial High-Speed Drive, and Gear Manufacturing.
333613 | Mechanical Power Transmission Equipment Manufacturing.
333618 | Other Engine Equipment Manufacturing.
333912 | Air and Gas Compressor Manufacturing.
333914 | Measuring, Dispensing, and Other Pumping Equipment Manufacturing.
333921 | Elevator and Moving Stairway Manufacturing.
333922 | Conveyor and Conveying Equipment Manufacturing.
333923 | Overhead Traveling Crane, Hoist, and Monorail System Manufacturing.
333924 | Industrial Truck, Tractor, Trailer, and Stacker Machinery Manufacturing.
333991 | Power-Driven Handtool Manufacturing.
333992 | Welding and Soldering Equipment Manufacturing.
333993 | Packaging Machinery Manufacturing.
333994 | Industrial Process Furnace and Oven Manufacturing.
333995 | Fluid Power Cylinder and Actuator Manufacturing.
333996 | Fluid Power Pump and Motor Manufacturing.
333997 | Scale and Balance Manufacturing.
333999 | All Other Miscellaneous General Purpose Machinery Manufacturing.
334111 | Electronic Computer Manufacturing.
334112 | Computer Storage Device Manufacturing.
334118 | Computer Terminal and Other Computer Peripheral Equipment Manufacturing.
334210 | Telephone Apparatus Manufacturing.
334220 | Radio and Television Broadcasting and Wireless Communications Equipment Manufacturing.
334290 | Other Communications Equipment Manufacturing.
334412 | Bare Printed Circuit Board Manufacturing.
334413 | Semiconductor and Related Device Manufacturing.
334416 | Capacitor, Resistor, Coil, Transformer, and Other Inductor Manufacturing.
334417 | Electronic Connector Manufacturing.
334418 | Printed Circuit Assembly (Electronic Assembly) Manufacturing.
334419 | Other Electronic Component Manufacturing.
334510 | Electromedical and Electrotherapeutic Apparatus Manufacturing.
334511 | Search, Detection, Navigation, Guidance, Aeronautical, and Nautical System and Instrument Manufacturing.
334512 | Automatic Environmental Control Manufacturing for Residential, Commercial, and Appliance Use.
334513 | Instruments and Related Products Manufacturing for Measuring, Displaying, and Controlling Industrial Process Variables.
334514 | Totalizing Fluid Meter and Counting Device Manufacturing.
334515 | Instrument Manufacturing for Measuring and Testing Electricity and Electrical Signals.
334516 | Analytical Laboratory Instrument Manufacturing.
334517 | Irradiation Apparatus Manufacturing.
334519 | Other Measuring and Controlling Device Manufacturing.
334613 | Blank Magnetic and Optical Recording Media Manufacturing.
334614 | Software and Other Prerecorded Compact Disc, Tape, and Record Reproducing.
335911 | Storage Battery Manufacturing.
335912 | Primary Battery Manufacturing.
335921 | Fiber Optic Cable Manufacturing.
335929 | Other Communication and Energy Wire Manufacturing.
335931 | Current-Carrying Wiring Device Manufacturing.
335932 | Noncurrent-Carrying Wiring Device Manufacturing.
335991 | Carbon and Graphite Product Manufacturing.
335999 | All Other Miscellaneous Electrical Equipment and Component Manufacturing.
336111 | Automobile Manufacturing.
336112 | Light Truck and Utility Vehicle Manufacturing.
336120 | Heavy Duty Truck Manufacturing.
336211 | Motor Vehicle Body Manufacturing.
336212 | Truck Trailer Manufacturing.
336213 | Motor Home Manufacturing.
336214 | Travel Trailer and Camper Manufacturing.
336310 | Motor Vehicle Gasoline Engine and Engine Parts Manufacturing.
336320 | Motor Vehicle Electrical and Electronic Equipment Manufacturing.
336330 | Motor Vehicle Steering and Suspension Components (except Spring) Manufacturing.
336340 | Motor Vehicle Brake System Manufacturing.
336350 | Motor Vehicle Transmission and Power Train Parts Manufacturing.
336360 | Motor Vehicle Seating and Interior Trim Manufacturing.
336370 | Motor Vehicle Metal Stamping.
336390 | Other Motor Vehicle Parts Manufacturing.
336411 | Aircraft Manufacturing.
336412 | Aircraft Engine and Engine Parts Manufacturing.
336413 | Other Aircraft Parts and Auxiliary Equipment Manufacturing.
336414 | Guided Missile and Space Vehicle Manufacturing.
336415 | Guided Missile and Space Vehicle Propulsion Unit and Propulsion Unit Parts Manufacturing.
336419 | Other Guided Missile and Space Vehicle Parts and Auxiliary Equipment Manufacturing.
336611 | Ship Building and Repairing.
336612 | Boat Building.
336991 | Motorcycle, Bicycle, and Parts Manufacturing.
336992 | Military Armored Vehicle, Tank, and Tank Component Manufacturing.
336999 | All Other Transportation Equipment Manufacturing.
337110 | Wood Kitchen Cabinet and Countertop Manufacturing.
337121 | Upholstered Household Furniture Manufacturing.
337122 | Nonupholstered Wood Household Furniture Manufacturing.
337124 | Metal Household Furniture Manufacturing.
337125 | Household Furniture (except Wood and Metal) Manufacturing.
337127 | Institutional Furniture Manufacturing.
337211 | Wood Office Furniture Manufacturing.
337212 | Custom Architectural Woodwork and Millwork Manufacturing.
337214 | Office Furniture (except Wood) Manufacturing.
337215 | Showcase, Partition, Shelving, and Locker Manufacturing.
339112 | Surgical and Medical Instrument Manufacturing.
339113 | Surgical Appliance and Supplies Manufacturing.
339114 | Dental Equipment and Supplies Manufacturing.
339115 | Ophthalmic Goods Manufacturing.
339116 | Dental Laboratories.
339910 | Jewelry and Silverware Manufacturing.
339920 | Sporting and Athletic Goods Manufacturing.
339930 | Doll, Toy, and Game Manufacturing.
339940 | Office Supplies (except Paper) Manufacturing.
339950 | Sign Manufacturing.
339991 | Gasket, Packing, and Sealing Device Manufacturing.
339992 | Musical Instrument Manufacturing.
339993 | Fastener, Button, Needle, and Pin Manufacturing.
339994 | Broom, Brush, and Mop Manufacturing.
339995 | Burial Casket Manufacturing.
339999 | All Other Miscellaneous Manufacturing.
481111 | Scheduled Passenger Air Transportation.
481112 | Scheduled Freight Air Transportation.
481211 | Nonscheduled Chartered Passenger Air Transportation.
481212 | Nonscheduled Chartered Freight Air Transportation.
481219 | Other Nonscheduled Air Transportation.
483111 | Deep Sea Freight Transportation.
483112 | Deep Sea Passenger Transportation.
483113 | Coastal and Great Lakes Freight Transportation.
483114 | Coastal and Great Lakes Passenger Transportation.
483211 | Inland Water Freight Transportation.
483212 | Inland Water Passenger Transportation.
484110 | General Freight Trucking, Local.
484121 | General Freight Trucking, Long-Distance, Truckload.
484122 | General Freight Trucking, Long-Distance, Less Than Truckload.
484210 | Used Household and Office Goods Moving.
484220 | Specialized Freight (except Used Goods) Trucking, Local.
484230 | Specialized Freight (except Used Goods) Trucking, Long-Distance.
485111 | Mixed Mode Transit Systems.
485112 | Commuter Rail Systems.
485113 | Bus and Other Motor Vehicle Transit Systems.
485119 | Other Urban Transit Systems.
485210 | Interurban and Rural Bus Transportation.
485310 | Taxi Service.
485320 | Limousine Service.
485991 | Special Needs Transportation.
485999 | All Other Transit and Ground Passenger Transportation.
488111 | Air Traffic Control.
488119 | Other Airport Operations.
488190 | Other Support Activities for Air Transportation.
488310 | Port and Harbor Operations.
488320 | Marine Cargo Handling.
488330 | Navigational Services to Shipping.
488390 | Other Support Activities for Water Transportation.
488410 | Motor Vehicle Towing.
488490 | Other Support Activities for Road Transportation.
488510 | Freight Transportation Arrangement.
488991 | Packing and Crating.
488999 | All Other Support Activities for Transportation.
491110 | Postal Service.
492110 | Couriers and Express Delivery Services.
492210 | Local Messengers and Local Delivery.
493110 | General Warehousing and Storage.
493120 | Refrigerated Warehousing and Storage.
493130 | Farm Product Warehousing and Storage.
493190 | Other Warehousing and Storage.
511110 | Newspaper Publishers.
511120 | Periodical Publishers.
511130 | Book Publishers.
511140 | Directory and Mailing List Publishers.
511191 | Greeting Card Publishers.
511199 | All Other Publishers.
511210 | Software Publishers.
512230 | Music Publishers.
512240 | Sound Recording Studios.
512250 | Record Production and Distribution.
512290 | Other Sound Recording Industries.
515111 | Radio Networks.
515112 | Radio Stations.
515120 | Television Broadcasting.
515210 | Cable and Other Subscription Programming.
517311 | Wired Telecommunications Carriers.
517312 | Wireless Telecommunications Carriers (except Satellite).
517410 | Satellite Telecommunications.
517911 | Telecommunications Resellers.
517919 | All Other Telecommunications.
518210 | Data Processing, Hosting, and Related Services.
519110 | News Syndicates.
519120 | Libraries and Archives.
519130 | Internet Publishing and Broadcasting and Web Search Portals.
519190 | All Other Information Services.
522310 | Mortgage and Nonmortgage Loan Brokers.
522320 | Financial Transactions Processing, Reserve, and Clearinghouse Activities.
522390 | Other Activities Related to Credit Intermediation.
523110 | Investment Banking and Securities Dealing.
523120 | Securities Brokerage.
523130 | Commodity Contracts Dealing.
523140 | Commodity Contracts Brokerage.
523910 | Miscellaneous Intermediation.
523920 | Portfolio Management.
523930 | Investment Advice.
523991 | Trust, Fiduciary, and Custody Activities.
523999 | Miscellaneous Financial Investment Activities.
524113 | Direct Life Insurance Carriers.
524114 | Direct Health and Medical Insurance Carriers.
524126 | Direct Property and Casualty Insurance Carriers.
524127 | Direct Title Insurance Carriers.
524128 | Other Direct Insurance (except Life, Health, and Medical) Carriers.
524130 | Reinsurance Carriers.
524210 | Insurance Agencies and Brokerages.
524291 | Claims Adjusting.
524292 | Third Party Administration of Insurance and Pension Funds.
524298 | All Other Insurance Related Activities.
525110 | Pension Funds.
525120 | Health and Welfare Funds.
525190 | Other Insurance Funds.
531210 | Offices of Real Estate Agents and Brokers.
531311 | Residential Property Managers.
531312 | Nonresidential Property Managers.
531320 | Offices of Real Estate Appraisers.
531390 | Other Activities Related to Real Estate.
532111 | Passenger Car Rental.
532112 | Passenger Car Leasing.
532120 | Truck, Utility Trailer, and RV (Recreational Vehicle) Rental and Leasing.
532210 | Consumer Electronics and Appliances Rental.
532281 | Formal Wear and Costume Rental.
532282 | Video Tape and Disc Rental.
532283 | Home Health Equipment Rental.
532284 | Recreational Goods Rental.
532289 | All Other Consumer Goods Rental.
532310 | General Rental Centers.
532411 | Commercial Air, Rail, and Water Transportation Equipment Rental and Leasing.
532412 | Construction, Mining, and Forestry Machinery and Equipment Rental and Leasing.
532420 | Office Machinery and Equipment Rental and Leasing.
532490 | Other Commercial and Industrial Machinery and Equipment Rental and Leasing.
541110 | Offices of Lawyers.
541120 | Offices of Notaries.
541191 | Title Abstract and Settlement Offices.
541199 | All Other Legal Services.
541211 | Offices of Certified Public Accountants.
541213 | Tax Preparation Services.
541214 | Payroll Services.
541219 | Other Accounting Services.
541310 | Architectural Services.
541320 | Landscape Architectural Services.
541330 | Engineering Services.
541340 | Drafting Services.
541350 | Building Inspection Services.
541360 | Geophysical Surveying and Mapping Services.
541370 | Surveying and Mapping (except Geophysical) Services.
541380 | Testing Laboratories.
541511 | Custom Computer Programming Services.
541512 | Computer Systems Design Services.
541513 | Computer Facilities Management Services.
541519 | Other Computer Related Services.
541611 | Administrative Management and General Management Consulting Services.
541612 | Human Resources Consulting Services.
541613 | Marketing Consulting Services.
541614 | Process, Physical Distribution, and Logistics Consulting Services.
541618 | Other Management Consulting Services.
541620 | Environmental Consulting Services.
541690 | Other Scientific and Technical Consulting Services.
541713 | Research and Development in Nanotechnology.
541714 | Research and Development in Biotechnology (except Nanobiotechnology).
541715 | Research and Development in the Physical, Engineering, and Life Sciences (except Nanotechnology and Biotechnology).
541720 | Research and Development in the Social Sciences and Humanities.
541810 | Advertising Agencies.
541820 | Public Relations Agencies.
541830 | Media Buying Agencies.
541840 | Media Representatives.
541850 | Outdoor Advertising.
541860 | Direct Mail Advertising.
541870 | Advertising Material Distribution Services.
541890 | Other Services Related to Advertising.
541910 | Marketing Research and Public Opinion Polling.
541921 | Photography Studios, Portrait.
541922 | Commercial Photography.
541930 | Translation and Interpretation Services.
541940 | Veterinary Services.
541990 | All Other Professional, Scientific, and Technical Services.
561110 | Office Administrative Services.
561210 | Facilities Support Services.
561311 | Employment Placement Agencies.
561312 | Executive Search Services.
561320 | Temporary Help Services.
561330 | Professional Employer Organizations.
561410 | Document Preparation Services.
561421 | Telephone Answering Services.
561422 | Telemarketing Bureaus and Other Contact Centers.
561431 | Private Mail Centers.
561439 | Other Business Service Centers (including Copy Shops).
561440 | Collection Agencies.
561450 | Credit Bureaus.
561491 | Repossession Services.
561492 | Court Reporting and Stenotype Services.
561499 | All Other Business Support Services.
561510 | Travel Agencies.
561520 | Tour Operators.
561591 | Convention and Visitors Bureaus.
561599 | All Other Travel Arrangement and Reservation Services.
561611 | Investigation Services.
561612 | Security Guards and Patrol Services.
561613 | Armored Car Services.
561621 | Security Systems Services (except Locksmiths).
561622 | Locksmiths.
561910 | Packaging and Labeling Services.
561920 | Convention and Trade Show Organizers.
561990 | All Other Support Services.
562910 | Remediation Services.
562920 | Materials Recovery Facilities.
562991 | Septic Tank and Related Services.
562998 | All Other Miscellaneous Waste Management Services.
611110 | Elementary and Secondary Schools.
611210 | Junior Colleges.
611310 | Colleges, Universities, and Professional Schools.
611410 | Business and Secretarial Schools.
611420 | Computer Training.
611430 | Professional and Management Development Training.
611511 | Cosmetology and Barber Schools.
611512 | Flight Training.
611513 | Apprenticeship Training.
611519 | Other Technical and Trade Schools.
611710 | Educational Support Services.
621111 | Offices of Physicians (except Mental Health Specialists).
621112 | Offices of Physicians, Mental Health Specialists.
621410 | Family Planning Centers.
621420 | Outpatient Mental Health and Substance Abuse Centers.
621491 | HMO Medical Centers.
621492 | Kidney Dialysis Centers.
621493 | Freestanding Ambulatory Surgical and Emergency Centers.
621498 | All Other Outpatient Care Centers.
621511 | Medical Laboratories.
621512 | Diagnostic Imaging Centers.
621610 | Home Health Care Services.
621910 | Ambulance Services.
621991 | Blood and Organ Banks.
621999 | All Other Miscellaneous Ambulatory Health Care Services.
622110 | General Medical and Surgical Hospitals.
623110 | Nursing Care Facilities (Skilled Nursing Facilities).
623210 | Residential Intellectual and Developmental Disability Facilities.
623220 | Residential Mental Health and Substance Abuse Facilities.
623990 | Other Residential Care Facilities.
624110 | Child and Youth Services.
624120 | Services for the Elderly and Persons with Disabilities.
624190 | Other Individual and Family Services.
624210 | Community Food Services.
624221 | Temporary Shelters.
624229 | Other Community Housing Services.
624230 | Emergency and Other Relief Services.
624310 | Vocational Rehabilitation Services.
711211 | Sports Teams and Clubs.
711212 | Racetracks.
711219 | Other Spectator Sports.
711310 | Promoters of Performing Arts, Sports, and Similar Events with Facilities.
711320 | Promoters of Performing Arts, Sports, and Similar Events without Facilities.
711410 | Agents and Managers for Artists, Athletes, Entertainers, and Other Public Figures.
711510 | Independent Artists, Writers, and Performers.
713110 | Amusement and Theme Parks.
713120 | Amusement Arcades.
713910 | Golf Courses and Country Clubs.
713920 | Skiing Facilities.
713930 | Marinas.
713940 | Fitness and Recreational Sports Centers.
713950 | Bowling Centers.
713990 | All Other Amusement and Recreation Industries.
722310 | Food Service Contractors.
722320 | Caterers.
722330 | Mobile Food Services.
722511 | Full-Service Restaurants.
722513 | Limited-Service Restaurants.
722514 | Cafeterias, Grill Buffets, and Buffets.
722515 | Snack and Nonalcoholic Beverage Bars.
811211 | Consumer Electronics Repair and Maintenance.
811212 | Computer and Office Machine Repair and Maintenance.
811213 | Communication Equipment Repair and Maintenance.
811219 | Other Electronic and Precision Equipment Repair and Maintenance.
811310 | Commercial and Industrial Machinery and Equipment (except Automotive and Electronic) Repair and Maintenance.
812210 | Funeral Homes and Funeral Services.
812220 | Cemeteries and Crematories.
812310 | Coin-Operated Laundries and Drycleaners.
812320 | Drycleaning and Laundry Services (except Coin-Operated).
812331 | Linen Supply.
812332 | Industrial Launderers.
812910 | Pet Care (except Veterinary) Services.
812921 | Photofinishing Laboratories (except One-Hour).
812922 | One-Hour Photofinishing.
812930 | Parking Lots and Garages.
812990 | All Other Personal Services.
813211 | Grantmaking Foundations.
813212 | Voluntary Health Organizations.
813219 | Other Grantmaking and Giving Services.
813311 | Human Rights Organizations.
813312 | Environment, Conservation and Wildlife Organizations.
813319 | Other Social Advocacy Organizations.
813410 | Civic and Social Organizations.
813910 | Business Associations.
813920 | Professional Organizations.
813930 | Labor Unions and Similar Labor Organizations.
813940 | Political Organizations.
813990 | Other Similar Organizations (except Business, Professional, Labor, and Political Organizations).

Beatrice Hidalgo,
Associate Administrator, Office of Government Contracting and Business Development.

[FR Doc. 2022-05788 Filed 3-17-22; 8:45 am]

BILLING CODE 8026-03-P